DEPARTMENT OF TRANSPORTATION

Federal Highway Administration

[Docket No. FHWA-2007-27203]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by April 13, 2007.

ADDRESSES: You may submit comments identified by DOT DMS Docket Number FHWA-2007-27203 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC, 20590-0001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room 401 on the plaza level of the Nassif Building, 400 Seventh Street, SW., Washington, DC, between 9 a.m. and 5p.m., Monday through Friday, except Federal holidays.

FOR FURTHER INFORMATION CONTACT: Mike Neathery, 202-366-1257 or Martin Weiss, 202-366-5010, Office of Interstate and Border Planning, Federal Highway Administration, Department of Transportation, 400 Seventh Street, SW., Washington, DC, 20590. Office hours are from 8 a.m. to 5 p.m., Monday through Friday, except Federal holidays.

SUPPLEMENTARY INFORMATION: Title: Rural Transportation Research.

Background: Section 5513(f) of The Safe, Accountable, Flexible, Efficient Transportation Equity Act: A Legacy for Users of 2005 (SAFETEA-LU) provides a grant to the New England Transportation Institute (hence “the Institute”) in White River Junction, Vermont, to conduct rural transportation research. The Institute will undertake research and analysis in support of two research issues: (1) Rural Transportation Issues Definition and Refinement; and (2) Rural Transportation Safety and Health. The research includes a 2-part survey to develop information that will help support a “portrait” of present rural transportation patterns. Applying the concepts of both “mobility” and “accessibility” to the rural Northeast, the Institute's surveys will explore the issues of “rural isolation” and driver travel behavior. The survey will address these questions:

• How serious a problem is rural isolation and perceptions of access (or lack thereof)?

• How are the economic forces acting on the rural areas affecting the manner, and length of trips in the rural Northeast?

• How are demographics going to change and/or influence the demands made on the transportation system? and

• What would be the transportation implications of different settlement patterns?

Respondents: Approximately 800 respondents for survey 1 and 600 respondents for survey 2.

Frequency: one time.

Estimated Average Burden per Response: 30 minutes per survey.

Estimated Total Annual Burden Hours: Approximately 700 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: February 6, 2007.
James R. Kabel,
Chief, Management Programs and Analysis Division.

[FR Doc. E7-2224 Filed 2-9-07; 8:45 am]

BILLING CODE 4910-22-P